FEDERAL COMMUNICATIONS COMMISSION

47 CFR Part 73

[DA 05-1152, MB Docket No. 04-201, RM-10972, RM-11103]

Radio Broadcasting Services; Birmingham, Orrville, Selma and Shorter, AL

AGENCY: Federal Communications Commission.

ACTION: Final rule.

SUMMARY: This document grants a petition filed by SSR Communications Incorporated proposing the allotment of Channel 300A at Shorter, Alabama, as that community's first local service. See 69 FR 34115, published June 18, 2004. This document also denies a counterproposal filed jointly by Scott Communications, Inc., licensee of Station WJAM-FM, Channel 300A, Orrville, Alabama and Alexander Broadcasting Company, Inc., licensee of Station WALX(FM), Channel 265C2, Selma, Alabama, requesting the substitution of Channel 300C3 for Channel 300A at Orrville, Alabama, reallotment of Channel 300C3 from Orrville to Shorter, Alabama, as its first local service and modification of the Station WJAM-FM license. To accommodate the reallotment, the counterproposal also proposed the reallotment of Channel 265C2 from Selma to Orrville, Alabama to prevent removal of Orrville's sole local service and modification of the Station WALX(FM) license and substitution of Channel 299C0 for Channel 299C at Birmingham, Alabama and modification of the Station WRAX license. Channel 300A can be allotted to Shorter, consistent with the minimum distance separation requirements of Section 73.207(b) of the Commission's Rules, provided there is a site restriction of 13.3 kilometers (8.3 miles) south of the community. The reference coordinates for Channel 300A at Shorter are 32-16-36 North Latitude and 85-56-20 West Longitude.

DATES: June 13, 2005.

ADDRESSES: Federal Communications Commission, 445 Twelfth Street, SW., Washington, DC 20554.

FOR FURTHER INFORMATION CONTACT: Rolanda F. Smith, Media Bureau, (202) 418-2180.

SUPPLEMENTARY INFORMATION: This is a summary of the Commission's Report and Order, MB Docket No. 04-201, adopted April 25, 2005, and released April 27, 2005. The full text of this Commission decision is available for inspection and copying during normal business hours in the Commission's Reference Center 445 Twelfth Street, SW., Washington, DC 20554. The complete text of this decision may also be purchased from the Commission's duplicating contractor, Best Copy and Printing, Inc., 445 12th Street, SW., Room CY-B402, Washington, DC 20054, telephone 1-800-378-3160 or http://www.BCPIWEB.com. The Commission will send a copy of this Report and Order in a report to be sent to Congress and the Government Accountability Office pursuant to the Congressional Review Act, see 5 U.S.C. 801(a)(1)(A).

List of Subjects in 47 CFR Part 73

Radio, Radio broadcasting.

PART 73—RADIO BROADCAST SERVICES

1. The authority citation for part 73 continues to read as follows:

Authority: 47 U.S.C. 154, 303, 334 and 336.

§ 73.202 [Amended]

2. Section 73.202(b), the Table of FM Allotments under Alabama, is amended by adding Shorter, Channel 300A.

Federal Communications Commission.
John A. Karousos,
Assistant Chief, Audio Division, Media Bureau.

[FR Doc. 05-9815 Filed 5-17-05; 8:45 am]

BILLING CODE 6712-01-M